DEPARTMENT OF AGRICULTURE

Submission for OMB Review; Comment Request

December 18, 2012.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Office of the Assistant Secretary for Administration

Title: USDA/1994 Tribal Scholars Program.

OMB Control Number: 0503-0016.

Summary of Collection: The USDA/1994 Tribal Scholars Program, within the Office of the Assistant Secretary for Administration, Office of Advocacy and Outreach, is an annual human capital initiative supporting Executive Order 13592—Improving American Indian and Alaska Native Educational Opportunities and Strengthening Tribal Colleges and Universities. The USDA/1994 Tribal Scholars Program is to assist USDA Agencies to meet critical human capital needs in rural, Tribal areas through qualified American Indian or Alaska Native students hired utilizing Indian Preference. This program offers a combination of paid work experience with the USDA sponsoring agency through the USDA Pathways Internship Program guidelines and the payment of a student's tuition, fees, and books. USDA Tribal Scholarship recipients are required to study in the food, and agricultural, and related sciences, as defined by the National Agricultural Research, Extension, and Teaching Policy Act of 1977 (7 U.S.C. 3103(8)).

Need and Use of the Information: Information will be collected to determine the eligibility of applicants to the USDA Tribal Scholars Program. Each applicant to the program will be required to apply to an announced vacancy announcement through the USDA Pathways Internship Program and submit an application with required documentation. This will include: (1) A resume or OF-612 form; (2) Proof of acceptance or enrollment in school via transcript (mandatory for current students and recent graduates), or a letter of acceptance, or proof of registration, or letter from school official (on official letterhead); (3) Standing Register/Certificate of Eligibility; and (4) OF-306 Declaration for Federal Employment.

The collected information is used only to identify students for the USDA 1994 Tribal Scholarship Award.

Description of Respondents: Individuals or households.

Number of Respondents: 1,440.

Frequency of Responses: Reporting: Annually.

Total Burden Hours: 5,040.

Ruth Brown,
Departmental Information Collection Clearance Officer.

[FR Doc. 2012-30776 Filed 12-20-12; 8:45 am]

BILLING CODE 3412-88-P